DEPARTMENT OF COMMERCE

[Docket Number 160907825-6825-01]

Request for Comments for the Commission on Evidence-Based Policymaking

AGENCY: Commission on Evidence-Based Policymaking, Department of Commerce.

ACTION: Request for comments.

SUMMARY: The Evidence-Based Policymaking Commission Act of 2016 (Pub. L. 114-140), enacted March 30, 2016, established a 15-member Commission on Evidence-Based Policymaking. The Commission is charged with examining strategies to increase the availability and use of government data, in order to build evidence related to government programs and policies, while protecting the privacy and confidentiality of the data. Over the next year, the Commission will consider how data, research, and evaluation are currently used to build evidence and continuously improve public programs and policies, and how to strengthen evidence-building to inform program and policy design and implementation. The Commission's work will conclude with a presentation of findings and recommendations on evidence-building to Congress and the President. This request for comments seeks public input on a range of issues, including topics the authorizing law directs the Commission to consider. The public comments received from this request will be used to inform future deliberations of the Commission.

DATES: Comments must be received by November 14, 2016.

ADDRESSES: Submit comments through the Federal eRulemaking Portal. We will not accept comments by fax or paper delivery. Please include the Docket ID and the phrase “Commission on Evidence-Based Policymaking Comments” at the beginning of your comments. Please also indicate which questions described in the SUPPLEMENTARY INFORMATION of this notice are addressed in your comments.

• Federal eRulemaking Portal: Go to www.regulations.gov to submit your comments electronically under Docket ID USBC-2016-0003. Information on using Regulations.gov, including instructions for accessing Commission documents, submitting comments, and viewing the docket, is available on the site under “How to Use This Site.”

• Privacy Note: Comments submitted in response to this notice may be made available to the public through relevant Web sites. Therefore, commenters should only include in their comments information that they wish to make publicly available on the Internet. Please note that responses to this public comment request containing any routine notice about the confidentiality of the communication will be treated as public comments that may be made available to the public, notwithstanding the inclusion of the routine notice.

FOR FURTHER INFORMATION CONTACT: Nick Hart, Policy and Research Director for the Commission on Evidence-Based Policymaking, nicholas.r.hart@census.gov.

SUPPLEMENTARY INFORMATION:

Purpose

The Commission on Evidence-Based Policymaking (hereafter, “Commission”) established by Public Law 114-140 is charged with examining strategies to improve the production and use of evidence to support U.S. government programs and policies. Specifically, the Commission is considering how to increase the availability and use of government data in support of evidence-building activities related to government programs and policies, while protecting the privacy and confidentiality of such data.

This request for comments offers government entities, researchers, evaluators, contractors, and other interested parties the opportunity to inform the Commission's work and provide recommendations on core questions the Commission will consider.

Request for Comments

Through this request for comments, the Commission is seeking initial feedback from a broad range of stakeholders on questions that will contribute to the Commission's future activities and fulfillment of its duties, potentially including any findings and recommendations. This request for comments is for information-gathering and fact-finding purposes only, and should not be construed as a solicitation or as an obligation on the part of the Commission or Federal agencies to agree with submitted comments or to make recommendations regarding specific issues identified in public comments.

The Commission requests that respondents address the following questions, where possible and applicable. Respondents are encouraged to focus on questions informed by relevant expertise or perspectives. Please clearly indicate which question(s) you address in your response and any evidence to support assertions, where practicable.

Overarching Questions

1. Are there successful frameworks, policies, practices, and methods to overcome challenges related to evidence-building from state, local, and/or international governments the Commission should consider when developing findings and recommendations regarding Federal evidence-based policymaking? If so, please describe.

2. Based on identified best practices and existing examples, what factors should be considered in reasonably ensuring the security and privacy of administrative and survey data?

Data Infrastructure and Access

3. Based on identified best practices and existing examples, how should existing government data infrastructure be modified to best facilitate use of and access to administrative and survey data?

4. What data-sharing infrastructure should be used to facilitate data merging, linking, and access for research, evaluation, and analysis purposes?

5. What challenges currently exist in linking state and local data to federal data? Are there successful instances where these challenges have been addressed?

6. Should a single or multiple clearinghouse(s) for administrative and survey data be established to improve evidence-based policymaking? What benefits or limitations are likely to be encountered in either approach?

7. What data should be included in a potential U.S. government data clearinghouse(s)? What are the current legal or administrative barriers to including such data in a clearinghouse or linking the data?

8. What factors or strategies should the Commission consider for how a clearinghouse(s) could be self-funded? What successful examples exist for self-financing related to similar purposes?

9. What specific administrative or legal barriers currently exist for accessing survey and administrative data?

10. How should the Commission define “qualified researchers and institutions?” To what extent should administrative and survey data held by government agencies be made available to “qualified researchers and institutions?”

11. How might integration of administrative and survey data in a clearinghouse affect the risk of unintentional or unauthorized access or release of personally-identifiable information, confidential business information, or other identifiable records? How can identifiable information be best protected to ensure the privacy and confidentiality of individual or business data in a clearinghouse?

12. If a clearinghouse were created, what types of restrictions should be placed on the uses of data in the clearinghouse by “qualified researchers and institutions?”

13. What technological solutions from government or the private sector are relevant for facilitating data sharing and management?

14. What incentives may best facilitate interagency sharing of information to improve programmatic effectiveness and enhance data accuracy and comprehensiveness?

Data Use in Program Design, Management, Research, Evaluation, and Analysis

15. What barriers currently exist for using survey and administrative data to support program management and/or evaluation activities?

16. How can data, statistics, results of research, and findings from evaluation, be best used to improve policies and programs?

17. To what extent can or should program and policy evaluation be addressed in program designs?

18. How can or should program evaluation be incorporated into program designs? What specific examples demonstrate where evaluation has been successfully incorporated in program designs?

19. To what extent should evaluations specifically with either experimental (sometimes referred to as “randomized control trials”) or quasi-experimental designs be institutionalized in programs? What specific examples demonstrate where such institutionalization has been successful and what best practices exist for doing so?

Guidance for Submitting Documents

We ask that each respondent include the name and address of his or her institution or affiliation, and the name, title, mailing and email addresses, and telephone number of a contact person for his or her institution or affiliation, if any.

Rights to Materials Submitted

By submitting material in response to this request, you agree to grant the Commission a worldwide, royalty-free, perpetual, irrevocable, nonexclusive license to use the material, and to post it. Further, you agree that you own, have a valid license, or are otherwise authorized to provide the material to the Commission. The Commission will not provide any compensation for material submitted in response to this request for comments.

Dated: September 8, 2016.
Shelly Martinez,
Executive Director of the Commission on Evidence-Based Policymaking.

[FR Doc. 2016-22002 Filed 9-13-16; 8:45 am]

BILLING CODE 3510-07-P